SMALL BUSINESS ADMINISTRATION

Regulatory Fairness Hearing; Region IX—Cupertino, California

AGENCY: U.S. Small Business Administration (SBA).

ACTION: Notice of open Hearing of Region IX Small Business Owners in Cupertino, CA.

SUMMARY: The SBA, Office of the National Ombudsman is issuing this notice to announce the location, date and time of the Cupertino, CA Regulatory Fairness Hearing. This hearing is open to the public.

DATES: The hearing will be held on Thursday, July 31, 2014, from 9:00 a.m. to 1:00 p.m. (PST).

ADDRESSES: The meeting will be at the Cupertino Community Hall, 10350 Torre Avenue, Cupertino, CA 95014.

SUPPLEMENTARY INFORMATION: Pursuant to the Small Business Regulatory Enforcement Fairness Act (Pub. L. 104-121), Sec. 222, SBA announces the meeting for Small Business Owners, Business Organizations, Trade Associations, Chambers of Commerce and related organizations serving small business concerns to report experiences regarding unfair or excessive Federal regulatory enforcement issues affecting their members.

FOR FURTHER INFORMATION CONTACT: The hearing is open to the public; however, advance notice of attendance is requested. Anyone wishing to attend and/or make a presentation at the Cupertino, CA hearing must contact José Méndez by July 24, 2014 in writing, by fax or email in order to be placed on the agenda. For further information, please contact José Méndez, Case Management Specialist, Office of the National Ombudsman, 409 3rd Street SW., Suite 7125, Washington, DC 20416, by phone (202) 205-6178 and fax (202) 481-5719. Additionally, if you need accommodations because of a disability, translation services, or require additional information, please contact José Méndez as well.

For more information on the Office of the National Ombudsman, see our Web site at www.sba.gov/ombudsman.

Dated: July 3, 2014.
Diana Doukas,
SBA Committee Management Officer.

[FR Doc. 2014-16143 Filed 7-9-14; 8:45 am]

BILLING CODE P